NUCLEAR REGULATORY COMMISSION

Agency Information Collection Activities: Proposed Collection; Comment Request

AGENCY: U.S. Nuclear Regulatory Commission (NRC).

ACTION: Notice of pending NRC action to submit an information collection request to OMB and solicitation of public comment.

SUMMARY: The NRC is preparing a submittal to OMB for review of continued approval of information collections under the provisions of the Paperwork Reduction Act of 1995 (44 U.S.C. Chapter 35).

Information pertaining to the requirement to be submitted:

1. The title of the information collection: “Reports Concerning Possible Non-Routine Emergency Generic Problems.”

2. Current OMB approval number: 3150-0012.

3. How often the collection is required: On occasion.

4. Who is required or asked to report: Nuclear power reactor licensees, research and test reactors, and materials applicants and licensees.

5. The number of annual respondents: 204 (104 nuclear power reactor licensees; 100 materials applicants and licensees).

6, The number of hours needed annually to complete the requirement or request: 369,440 (349,440 for nuclear power reactor licensees [8 responses × 420 hrs/response × 104 licensees] and 20,000 for materials applicants and licensees [2 responses × 100 hrs/response × 100 licensees]).

Abstract. NRC is requesting approval authority to collect information concerning possible non-routine generic problems which would require prompt action from NRC to preclude potential threats to public health and safety.

Submit, by June 5, 2006, comments that address the following questions:

1. Is the proposed collection of information necessary for the NRC to properly perform its functions? Does the information have practical utility?

2. Is the burden estimate accurate?

3. Is there a way to enhance the quality, utility, and clarity of the information to be collected?

4. How can the burden of the information collection be minimized, including the use of automated collection techniques or other forms of information technology?

A copy of the draft supporting statement may be viewed free of charge at the NRC Public Document Room, One White Flint North, 11555 Rockville Pike, Room O-1 F21, Rockville, MD 20852. OMB clearance requests are available at the NR worldwide Web site: http://www.nrc.gov/public-involve/doc-comment/omb/index.html. The document will be available on the NRC home page site for 60 days after the signature date of this notice.

Comments and questions about the information collection requirements may be directed to the NRC Clearance Officer, Brenda Jo. Shelton (T-5 F52), U.S. Nuclear Regulatory Commission, Washington, DC 20555-0001, by telephone at 301-415-7233, or by Internet electronic mail to INFOCOLLECTS&NRC.GOV.

Dated at Rockville, Maryland, this 30th day of March 2006.
For the Nuclear Regulatory Commission.
Brenda Jo. Shelton,
NRC Clearance Officer, Office of Information Services.

[FR Doc. 06-3335 Filed 4-5-06; 8:45am]

BILLING CODE 7590-01-M